DEPARTMENT OF TRANSPORTATION

Federal Aviation Administration

[Docket No. FAA-2025-0788]

Agency Information Collection Activities: Requests for Comments; Clearance of a Renewed Approval of Information Collection: Aviation Maintenance Technician Schools

AGENCY: Federal Aviation Administration (FAA), DOT.

ACTION: Notice and request for comments.

SUMMARY: In accordance with the Paperwork Reduction Act of 1995, FAA invites public comments about our intention to request the Office of Management and Budget (OMB) approval to renew an information collection. The collection involves Aviation Maintenance Technician School (AMTS) applicants and certificate holders. The information to be collected will be used to ensure AMTS applicants and certificate holders meet the regulatory requirements prior to being certificated, and on an ongoing basis following FAA certification.

DATES: Written comments should be submitted by July 17, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Tanya Glines by email at: Tanya.glines@faa.gov; phone: 202-380-5896.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0040.

Title: Aviation Maintenance Technician Schools.

Form Numbers: FAA Form 8310-6.

Type of Review: This is a renewal of an information collection.

Background: The Federal Register Notice with a 60-day comment period soliciting comments on the following collection of information was published on April 22, 2025 (90 FR 16913). This information collection outlines the reporting and recordkeeping burdens associated with compliance under 14 CFR part 147. These requirements are implemented pursuant to Section 135 of the Aircraft Certification, Safety, and Accountability Act, as enacted in Public Law 116-260, the Consolidated Appropriations Act of 2021.

The collection of information includes both reporting and recordkeeping obligations for Aviation Maintenance Technician Schools (AMTS). All AMTS applicants are required to submit an application along with a description of their facilities, the basis of their curriculum, and how the AMTS meets instructor requirements. Applicants must also provide any additional documentation necessary to demonstrate compliance with part 147 requirements. Each applicant is required to establish a curriculum aligned with the Mechanic Airman Certification Standards to adequately prepare students for the FAA examinations required to obtain a Mechanic certificate and associated ratings. Applicants that are not accredited by an accrediting organization recognized by the U.S. Department of Education, must instead develop a Quality Control System that is submitted for approval by the FAA.

Once certificated, AMTS must notify the FAA of any additional training locations beyond the school's primary location, and where the AMTS will conduct training under part 147. AMTS are required to issue authenticated documentation verifying when a student has completed the part 147 curriculum. This documentation serves as evidence of eligibility for the student to take the FAA written mechanic tests. AMTS may also issue authenticated documentation for students who have completed only the General portion of the curriculum. For AMTS operating under a FAA-Approved Quality Control System, all records specified in the QC system must be maintained for the durations established by the AMTS. The information collected is provided to the certificate holder/applicant's appropriate FAA Flight Standards office to allow the FAA to determine compliance with the part 147 requirements for obtaining and or retaining an FAA air agency certificate.

For applicants, when all part 147 requirements have been met, an FAA air agency certificate is issued with the appropriate ratings. For FAA certificated AMTS, the FAA uses the information collected to determine if the AMTS provides appropriate training at each location of the AMTS, meets quality control system requirements, and ensures that AMTS students receive an appropriate document showing the student is eligible to take the FAA tests to obtain a mechanic certificate.

Respondents: Approximately 10 AMTS applicants, and 208 FAA-certificated AMTS respond to this collection annually.

Frequency: AMTS applicants respond one time, prior to certification. FAA-certificated AMTS respond occasionally after certification and have ongoing recordkeeping requirements.

Estimated Average Burden per Response: 29 hours/response on average.

Estimated Total Annual Burden: 21,901 hours/year.

Issued in Washington DC, on June 12, 2025.
Tanya A. Glines,
Aviation Safety Inspector, Office of Safety Standards, Aircraft Maintenance Division, Airman Section.

[FR Doc. 2025-11081 Filed 6-16-25; 8:45 am]

BILLING CODE 4910-13-P